DEPARTMENT OF COMMERCE

National Oceanic and Atmospheric Administration

50 CFR Part 648

[Docket No. 000407096-0096-01; I.D. 092903B]

Fisheries of the Northeastern United States; Northeast (NE) Multispecies Fishery; Commercial Haddock Harvest

AGENCY: National Marine Fisheries Service (NMFS), National Oceanic and Atmospheric Administration (NOAA), Commerce.

ACTION: Removal of haddock trip limit.

SUMMARY: NMFS announces that the Administrator, Northeast Region, NMFS (Regional Administrator) is suspending the haddock trip limit for the NE multispecies fishery for the remainder of the 2003 fishing year. The Regional Administrator has projected that less than 75 percent of the haddock target total allowable catch (TAC) will be harvested for the 2003 fishing year under the existing restrictive trip limits. This action is intended to allow fishermen to catch more of the haddock TAC, without exceeding it, and to reduce discards of haddock. Therefore, this action removes the haddock trip limit for the remainder of the 2003 fishing year, through April 30, 2004.

DATES: Effective beginning October 3, 2003, through April 30, 2004.

FOR FURTHER INFORMATION CONTACT: Susan Chinn, Fishery Management Specialist, 978-281-9218.

SUPPLEMENTARY INFORMATION: Framework Adjustment 33 to the NE Multispecies Fishery Management Plan, which became effective May 1, 2000, implemented the current haddock trip limit regulations (65 FR 21658, April 24, 2000). To ensure that haddock landings do not exceed the appropriate target TAC, Framework 33 established a haddock trip limit of 3,000 lb (1,361 kg) per NE multispecies day-at-sea (DAS) fished, and a maximum trip limit of 30,000 lb (13,608 kg) of haddock for the period May 1 through September 30; and 5,000 lb (2,268 kg) of haddock per DAS and 50,000 lb (22,680 kg) per trip from October 1 through April 30. Framework 33 also provided a mechanism to adjust the haddock trip limit based upon the percentage of TAC that is projected to be harvested. Section 648.86(a)(1)(iii)(B) specifies that, if the Regional Administrator projects that less than 75 percent of the haddock target TAC will be harvested in the fishing year, the haddock trip limit may be adjusted. Further, this section stipulates that NMFS will publish notification in the Federal Register informing the public of the date of any changes to the trip limit.

Based on the December 2002 “Declaration of Steven A. Murawski, Ph.D.” to the U.S. District Court for the District of Columbia,” in the case Conservation Law Foundation et al. v. Evans et al., the Georges Bank (GB) haddock TAC calculated for the 2003 fishing year was 18,540 mt, including both U.S. and Canadian landings. The 2003 Canadian quota for eastern GB haddock is 6,934 mt. The U.S. portion of the GB haddock target TAC for the 2003 fishing year should be approximately the difference between the entire GB haddock TAC and the Canadian quota, or 11,606 mt. Based on recent historical fishing practices, the Regional Administrator has projected that, under the current suspension of the daily landing limits, with the trip limits still in effect, GB haddock landings for fishing year 2003 would be about 15 million lb (6,804 mt), accounting for about 59 percent of the estimated 2003 target TAC (11,606 mt). Based on data from the 2002 fishing year, the Regional Administrator has determined that, if trip limits were suspended starting in August 2003 for the remainder of the 2003 fishing year, GB haddock landings would be between 17.36 million lb and 24.04 million lb, or 68 to 94 percent of the target TAC. The upper-bound estimation is considered extremely liberal because it treats all GB DAS yielding any NE multispecies in fishing year 2002 as days on which GB haddock would be harvested under no trip limit in fishing year 2003.

Given that, under current management measures, less than 75 percent of the 2003 fishing year haddock target TAC is projected to be harvested by April 30, 2004, and that GB haddock landings will not exceed the target TAC if trip limits are suspended, the Regional Administrator has determined that suspending the haddock trip possession limits will provide the industry with the opportunity to harvest the target TAC for the 2003 fishing year, while minimizing discards of legal-sized haddock. In order to prevent the TAC from being exceeded, the Regional Administrator will closely monitor the GB haddock landings and may adjust this possession limit again through publication of a notification in the Federal Register, pursuant to § 648.86(a)(1)(iii) if projections indicate that the haddock TAC for fishing year 2003 is likely to be exceeded.

Classification

This action is required by 50 CFR part 648 and is exempt from review under Executive Order 12866.

Authority: 16 U.S.C. 1801 et seq.

Dated: October 2, 2003.
Bruce C. Morehead,
Acting Director, Office of Sustainable Fisheries, National Marine Fisheries Service.

[FR Doc. 03-25510 Filed 10-3-03; 2:00 pm]

BILLING CODE 3510-22-S